DEPARTMENT OF JUSTICE

Antitrust Division

Notice Pursuant to the National Cooperative Research and Production Act of 1993—COVA Technologies Inc.

Notice is hereby given that, on February 11, 2002, pursuant to section 6(a) of the National Cooperative Research and Production Act of 1993, 15 U.S.C. 4301 et seq. (“the Act”), COVA Technologies Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are COVA Technologies, Inc., Colorado Springs, CO; and Celis Semiconductor Corporation, Colorado Springs, CO. The nature and objectives of the venture are to conduct research on ferroelectric nonvolatile memory technologies that will enable dense, ferroelectric memory products based on one-transistor ferroelectric memory cells.

Constance K. Robinson,
Director of Operations, Antitrust Division.

[FR Doc. 02-6500 Filed 3-18-02; 8:45 am]

BILLING CODE 4410-11-M